NATIONAL ARCHIVES AND RECORDS ADMINISTRATION

Office of Presidential Libraries; Proposed Disposal of Clinton Administration Electronic Backup Tapes

AGENCY: National Archives and Records Administration (NARA).

ACTION: Presidential Records Act notice of proposed disposal of Clinton Administration backup tapes containing redundant information; request for public comment.

SUMMARY: The National Archives and Records Administration (NARA) has identified Clinton backup tapes, housed at the National Archives at College Park, Maryland, as appropriate for disposal under the provisions of 44 U.S.C. 2203(f)(3). This notice describes the Presidential record information on these backup tapes and our reasons for determining that these backup tapes have insufficient administrative, historical, informational, or evidentiary value to warrant their continued preservation. NARA is maintaining the Presidential record information on these backup tapes on a different set of electronic media. NARA will review timely public comments received on this notice before making a final determination on the disposal of the records.

DATES: Comments are due by June 17, 2005.

ADDRESSES: Comments regarding the proposed disposal of these Presidential records must be sent in writing to Sharon K. Fawcett, National Archives and Records Administration, Suite 2200, 8601 Adelphi Road, College Park, Maryland 20740-6001; or by fax to 301-837-3199; or by e-mail to sharon.fawcett@nara.gov.

FOR FURTHER INFORMATION CONTACT: Sharon K. Fawcett at 301-837-3250.

SUPPLEMENTARY INFORMATION: NARA proposes the disposition of 9,193 backup tapes created during the Clinton Administration by White House Communications Agency (WHCA) staff because NARA has determined that they lack continuing administrative, historical, informational or evidentiary value. The tapes contain duplicate versions of classified electronic records for a small number of staff members in the Clinton Administration National Security Council, consisting primarily of electronic calendar data. NARA will continue to retain on other electronic media a full set of copies of the Presidential records on the backup tapes proposed for disposal.

During the Clinton Administration, a very small number of NSC staff (and their secretaries) continued to use older software known as PROFS, primarily to maintain electronic calendars and call logs, including for the scheduling of daily activities and appointments. PROFS (Professional/Office Vision software) was an IBM proprietary office management tool available to NSC staff and supported by WHCA. NSC staff maintaining PROFS calendars and call logs included the Assistants to the President for National Security, their Deputies, members of the NSC Office of the Executive Secretary, and certain additional NSC staff. All NSC staff separately used the NSC Classified E-mail System known as “A-1” or “All-in-One,” later migrated to Microsoft Mail and Microsoft Schedule, as their primary e-mail system. NARA has copies of all NSC Classified E-mail and Calendars maintained on this latter NSC e-mail system in a separate series of Clinton Presidential records that are being retained permanently.

Throughout the eight years of the Clinton Administration, WHCA prepared periodic backup tapes of the PROFS system. The periodic backups captured data from the entire system, i.e., each new backup copied new data plus cumulative data already captured on prior backups (including data in closed accounts representing former staff in previous Administrations). The backups also contain nonrecord software and systems information captured by NSC and WHCA's disaster recovery operation at the time of tape creation.

For backup tapes created during the time period between January 20, 1993 and March 28, 1994, all PROFS notes, documents, calendars and call log information on the tapes were made subject to a tape restoration project (TRP) conducted in response to stipulations and orders entered in the case of Armstrong v. Executive Office of the President, Civ. No. 89-0142 (D.D.C.), and NARA will continue to retain these records. (The PROFS notes and documents function was only in use through June 30, 1993, and all such e-mails have been restored.) Similarly, all legacy data (notes, documents, calendars, and call logs) from previous Administrations also were restored pursuant to the Armstrong TRP. Both the restored Ronald Reagan and George H.W. Bush PROFS records and the separately preserved Reagan and Bush era backup tapes are maintained by NARA as separate collections and are not the subject of this proposed disposal.

In addition, NARA will permanently retain multiple preservation copies of the January 19, 2001, backup tape created by WHCA containing cumulative data from the entire eight year span of the Clinton Administration on this system. NARA also is retaining a comprehensive “snapshot” in electronic form of all calendar data and call logs contained on the January 19, 2001, backup tape of the records of five high-level NSC officials (Anthony Lake, Samuel Berger, Nancy Soderberg, Donald Kerrick, and James Steinberg) during the entirety of their service in the Clinton Administration.

Although the materials are currently classified and are otherwise subject to access restrictions imposed by the Presidential Records Act (44 U.S.C. 2204(a)), NARA will be able to respond to future access requests for the electronic calendars, call logs, and e-mail of high-level NSC officials, both as restored in response to litigation and as contained on the snapshot being retained from the last day of the Clinton Administration. Because NARA already retains all of the records of archival value, these 9,193 backup tapes do not warrant permanent retention and are disposable.

This notice does not constitute a final agency action as described in 44 U.S.C. 2203(f)(3) and no Presidential records will be disposed of following this notice. NARA will publish a second notice in the Federal Register only after it has considered any comments received during this 45-day comment period. The second, 60-day notice will constitute a final agency action in the event NARA proceeds with disposal.

Dated: April 27, 2005.
Sharon K. Fawcett,
Acting Assistant Archivist for Presidential Libraries.

[FR Doc. 05-8765 Filed 5-2-05; 8:45 am]

BILLING CODE 7515-01-P